DEPARTMENT OF COMMERCE

Foreign-Trade Zones Board

[Order No. 1830]

Expansion of Foreign-Trade Zone 163; Ponce, PR

Pursuant to its authority under the Foreign-Trade Zones Act of June 18, 1934, as amended (19 U.S.C. 81a-81u), the Foreign-Trade Zones Board (the Board) adopts the following Order:

Whereas, Codezol, C.D., grantee of Foreign-Trade Zone 163, submitted an application to the Board for authority to expand FTZ 163 to include existing Sites 14 and 15 in Caguas on a permanent basis and to include a site (Site 16) in Ponce, Puerto Rico, within and adjacent to the Ponce Customs and Border Protection port of entry (FTZ Docket 52-2011, filed 8/9/2011);

Whereas, notice inviting public comment has been given in the Federal Register (76 50455, 8/15/2011) and the application has been processed pursuant to the FTZ Act and the Board's regulations; and

Whereas, the Board adopts the findings and recommendations of the examiner's report, and finds that the requirements of the FTZ Act and the Board's regulations would be satisfied, and that the proposal would be in the public interest if subject to a time limit;

Now, therefore, the Board hereby orders:

The application to expand FTZ 163 is approved, subject to the FTZ Act and the Board's regulations, including Section 400.13, and to a time limit for Sites 14, 15, and 16 that would terminate authority on May 31, 2017, subject to extension upon review.

Signed at Washington, DC, this 24th day of May 2012.
Paul Piquado,
Assistant Secretary of Commerce for Import Administration, Alternate Chairman, Foreign-Trade Zones Board.
Attest:
Andrew McGilvray.
Executive Secretary.

[FR Doc. 2012-13478 Filed 6-1-12; 8:45 am]

BILLING CODE 3510-DS-P